DEPARTMENT OF COMMERCE

International Trade Administration

[A-570-905]

Certain Polyester Staple Fiber From the People's Republic of China: Final Results of Expedited Sunset Review of the Antidumping Duty Order

AGENCY: Import Administration, International Trade Administration, Department of Commerce.

SUMMARY: On May 1, 2012, the Department of Commerce (“the Department”) initiated the first five-year (“sunset”) review of the antidumping duty order on certain polyester staple fiber from the People's Republic of China (“PRC”) pursuant to section 751(c) of the Tariff Act of 1930, as amended (“the Act”). On the basis of a notice of intent to participate and an adequate substantive response filed on behalf of the domestic interested party, as well as a lack of response from respondent interested parties, the Department conducted an expedited sunset review of the antidumping duty order, pursuant to section 751(c)(3)(B) of the Act and 19 CFR 351.218(e)(1)(ii)(C)(2). As a result of this sunset review, the Department finds that revocation of the antidumping duty order on certain polyester staple fiber from the PRC would be likely to lead to continuation or recurrence of dumping at the levels indicated in the “Final Results of Review” section of this notice.

DATES: Effective Date: September 6, 2012.

FOR FURTHER INFORMATION CONTACT: Jerry Huang, AD/CVD Operations, Import Administration, International Trade Administration, U.S. Department of Commerce, 14th Street and Constitution Avenue NW., Washington, DC 20230; telephone: (202) 482-4047.

SUPPLEMENTARY INFORMATION:

Background

On May 1, 2012, the Department initiated the first sunset review of the antidumping duty order on certain polyester staple fiber from the PRC, pursuant to section 751(c) of the Act and 19 CFR 351.218(c)(2).¹ The Department received a notice of intent to participate from DAK Americas, LLC (“domestic interested party”) within the deadline specified in 19 CFR 351.218(d)(1)(i).² The domestic interested party claimed interested party status under section 771(9)(C) of the Act, as manufacturers of a domestic like product in the United States.

¹ See Initiation of Five-Year (“Sunset”) Review; Correction, 77 FR 28355 (May 14, 2012).

² See Letter from domestic interested party, regarding: “Polyester Staple Fiber From China: Five Year (“Sunset”) Review of Antidumping Duty Order”, dated May 16, 2012.

We received a complete substantive response from the domestic interested party within the 30-day deadline specified in 19 CFR 351.218(d)(3)(i).³ We received no responses from respondent interested parties. As a result, the Department conducted an expedited sunset review of the Order, pursuant to section 751(c)(3)(B) of the Act and 19 CFR 351.218(e)(1)(ii)(C)(2).

³ See Letter from domestic interested party, regarding: “Polyester Staple Fiber From China: Five Year (“Sunset”) Review of Antidumping Duty Order”, dated May 31, 2012.

Scope of the Order

The merchandise subject to the order is certain polyester staple fiber defined under the scope of the order as synthetic staple fibers, not carded, combed or otherwise processed for spinning, of polyesters measuring 3.3 decitex (3 denier, inclusive) or more in diameter. This merchandise is cut to lengths varying from one inch (25 millimeters (“mm”)) to five inches (127 mm). The subject merchandise may be coated, usually with a silicon or other finish, or not coated. Polyester staple fiber is generally used as stuffing in sleeping bags, mattresses, ski jackets, comforters, cushions, pillows, and furniture. Merchandise subject to the order is currently classifiable in the Harmonized Tariff Schedule of the United States (“HTSUS”) at subheadings 5503.20.0045 (3.3 to 13.2 decitex) and 5503.20.00.65 (13.2 decitex or greater). Although the subheadings are provided for convenience and customs purposes, our written description of the scope of the order is dispositive.

The following products are excluded from the scope: Polyester staple fiber of less than 3.3 decitex (less than 3 denier) currently classifiable in the HTSUS at subheading 5503.20.00.25 and known to the industry as polyester staple fiber for spinning and generally used in woven and knit applications to produce textile and apparel products, PSF of 10 to 18 denier that are cut to lengths of 6 to 8 inches and that are generally used in the manufacture of carpeting, and low-melt polyester staple fiber defined as a bi-component fiber with an outer, non-polyester sheath that melts at a significantly lower temperature than its inner polyester core (classified at HTSUS 5503.20.0015).

Analysis of Comments Received

All issues raised in this review are addressed in the “Issues and Decision Memorandum for the Expedited Sunset Review of the Antidumping Duty Order on Certain Polyester Staple Fiber from the People's Republic of China” (“Decision Memorandum”) from Gary Taverman, Senior Advisor for Antidumping and Countervailing Duty Operations, to Paul Piquado, Assistant Secretary for Import Administration, dated concurrently with and hereby adopted by this notice. The issues discussed in the Decision Memorandum include the likelihood of continuation or recurrence of dumping and the magnitude of the margins likely to prevail if the order was to be revoked. Parties may find a complete discussion of all issues raised in the review and the corresponding recommendations in this public memorandum which is on file electronically via Import Administration's Antidumping and Countervailing Duty Centralized Electronic Services System (“IA ACCESS”). IA ACCESS is available to registered users at http://iaaccess.trade.gov and in the Central Records Unit room 7046 of the main Commerce building. In addition, a complete version of the Decision Memorandum can be accessed directly on the Web at http://ia.ita.doc.gov/frn. The signed Decision Memorandum and the electronic versions of the Decision Memorandum are identical in content.

Final Results of Review

We determine that revocation of the order would be likely to lead to continuation or recurrence of dumping and that the magnitudes of the margins of dumping likely to prevail are as follows:

Exporter | Margin of dumping (percent)
Far Eastern Industries (Shanghai) Ltd | 3.47
Cixi Sansheng Chemical Fiber Co., Ltd | 4.44
Cixi Waysun Chemical Fiber Co., Ltd | 4.44
Hangzhou Best Chemical Fibre Co., Ltd | 4.44
Hangzhou Hanbang Chemical Fibre Co., Ltd | 4.44
Hangzhou Huachuang Co., Ltd | 4.44
Hangzhou Sanxin Paper Co., Ltd | 4.44
Hangzhou Taifu Textile Fiber Co., Ltd | 4.44
Jiaxang Fuda Chemical Fibre Factory | 4.44
Nantong Luolai Chemical Fiber Co. Ltd | 4.44
Nanyang Textile Co., Ltd | 4.44
Suzhou PolyFiber Co., Ltd | 4.44
Xiamen Xianglu Fiber Chemical Co | 4.44
Zhaoqing Tifo New Fiber Co., Ltd | 4.44
Zhejiang Anshun Pettechs Fibre Co., Ltd | 4.44
Zhejiang Waysun Chemical Fiber Co., Ltd | 4.44
PRC-Wide Rate | 44.30

Notice Regarding Administrative Protective Order (“APO”)

This notice also serves as the only reminder to parties subject to APO of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 771(i)(1) of the Act.

Dated: August 29, 2012.
Paul Piquado,
Assistant Secretary for Import Administration.

[FR Doc. 2012-22002 Filed 9-5-12; 8:45 am]

BILLING CODE 3510-DS-P